INTERNATIONAL TRADE COMMISSION

[USITC SE-03-020]

Sunshine Act Meeting

AGENCY HOLDING THE MEETING: United States International Trade Commission.

TIME AND DATE: July 11, 2003 at 2 p.m.

PLACE: Room 101, 500 E Street, SW., Washington, DC 20436, Telephone: (202) 205-2000.

STATUS: Open to the public.

MATTERS TO BE CONSIDERED: 1. Agenda for future meetings: none.

2. Minutes.

3. Ratification List.

4. Inv. Nos. 731-TA-1039-1041 (Preliminary) (Wax and Wax Resin Thermal Transfer Ribbons from France, Japan, Korea)—briefing and vote. (The Commission is currently scheduled to transmit its determination to the Secretary of Commerce on or before July 14, 2003; Commissioners' opinions are currently scheduled to be transmitted to the Secretary of Commerce on or before July 21, 2003.)

5. Outstanding action jackets: none.

In accordance with Commission policy, subject matter listed above, not disposed of at the scheduled meeting, may be carried over to the agenda of the following meeting.

Issued: July 1, 2003.
By order the Commission:
Marilyn R. Abbott,
Secretary to the Commission.

[FR Doc. 03-17139 Filed 7-1-03; 3:56 pm]

BILLING CODE 7020-02-P